DEPARTMENT OF THE INTERIOR

National Park Service

Personal Watercraft Use, Environmental Impact Statement, Glen Canyon National Recreation Area, Arizona and Utah

AGENCY: National Park Service, Department of the Interior.

ACTION: Notice of Intent (NOI) to prepare an environmental impact statement (EIS).

SUMMARY: Under the provisions of the National Environmental Policy Act of 1969, the National Park Service (NPS) will prepare an EIS to make reasoned decisions about whether to continue personal watercraft (PWC) use at Glen Canyon NRA. NPS will make the determination based on the unit's enabling statute, mission, management objectives, resources, values, and other uses, as well as PWCs' impacts on the unit. 65 FR 15078 (2000).

Consistent with Bluewater Network v. Stanton, No. CV02093 (D.D.C. 2000) and the settlement agreement approved by the court on April 11, 2001, the NPS will comply with NEPA by preparing an EIS. The EIS will evaluate various PWC use alternatives to determine their effects on water quality, air quality, soundscapes, wildlife, wildlife habitat, shoreline vegetation, visitor conflicts, safety, and other appropriate topics. NPS will consider various alternatives including: no action (continued PWC use until September 15, 2002 then no special regulation authorizing continued PWC use), continued PWC use under current management, and continued but limited PWC use under one or more management variations.

If NPS decides to continue PWC use after September 15, 2002, it will have to adopt a unit-specific special regulation. To implement this decision, the NPS will commence rulemaking by publishing a proposed rule to authorize PWC use at Glen Canyon NRA in the Federal Register.

NPS will consult with affected federal, state, local, and tribal entities to determine issues of mutual concern.

NPS will prepare a scoping brochure detailing the identified issues. In the near future, you may obtain a brochure copy by contacting: Superintendent, Glen Canyon NRA, P.O. Box 1507, Page, Arizona 86040, telephone: 520-608-6339, email: glca_pwc@nps.gov.

Comments

You may submit comments concerning the following: The EIS's scope, the issues to cover, the alternatives to consider, and other PWC resource concerns. You may submit your comments using mail, e-mail, or hand delivery.

Mail comments to Superintendent, Glen Canyon National Recreation Area, P.O. Box 1507, Page, AZ 86040. E-mail comments to glca_pwc@nps.gov. Include your name and address in your e-mail message. If you do not receive confirmation that we received your message, then call 520-608-6339. Hand deliver your comments to 691 Scenic View Drive, Page, Arizona.

During regular business hours, NPS will make available for public inspection the entire text of comments from individuals, organizations, and businesses (including representatives and officials from businesses or organizations). These comments will include respondents' names and addresses, unless they request that we withhold their names and addresses from the record; which we will honor to the extent allowable by law. If you wish to have NPS withhold your name and/or address, you must state this prominently at the beginning of your comment.

Scoping Workshops

In addition to the scoping brochure, the NPS expects to conduct scoping workshops to involve the public in the issue identification and the alternative development processes. Although NPS has not yet determined the workshop logistics, NPS will provide this information in the near future. You can get specific workshop locations, times, and dates by reading the scoping brochure, visiting the internet site at www.nps.gov/glca/plan.htm, or by contacting the Superintendent, Glen Canyon NRA, P.O. Box 1507, Page, Arizona 86040, telephone: 520-608-6339, e-mail; glca_pwc@nps.gov.

FOR FURTHER INFORMATION CONTACT: Contact the Superintendent, Glen Canyon NRA, P.O. Box 1507, Page, Arizona 86040, telephone: 520-608-6339, email: glca_pwc@nps.gov, www.nps.gov/glca/plan.htm.

Karen Wade,
Director, Intermountain Region, National Park Service.

[FR Doc. 01-19113 Filed 7-31-01; 8:45 am]

BILLING CODE 4310-70-M